DEPARTMENT OF LABOR

Employment and Training Administration

[TA-W-59,847]

Label World Incorporated Rochester, NY, Notice of Revised Determination on Reconsideration

By letter dated October 5, 2006, a company official requested administrative reconsideration regarding the Department's Negative Determination Regarding Eligibility to Apply for Worker Adjustment Assistance, applicable to the workers of Label World Incorporated, Rochester, New York (subject firm). The Department's determination was issued on August 25, 2006. The Department's Notice of determination was published in the Federal Register on September 13, 2006 (71 FR 54095). Workers produce die-cut thermal media and labels for home photo printing.

The petition alleges that the subject firm shifted production abroad and provided information that implied that the subject firm's major customer was importing from Mexico.

The denial was based on the Department's findings that the subject firm did not shift abroad, that neither the subject firm nor the firm's customer increased imports of thermal media or labels during the relevant period, and that the firm's major customer is transferring its reliance of thermal media and labels from the subject firm to a Mexican facility but will not import like or directly competitive articles.

In the request for reconsideration, the company official states that the subject firm supplied a component part of an article that was produced by a customer who shifted production of the final product to Mexico.

Although secondary impact (the subject firm is a supplier of a component part for a TAA-certified firm and loss of business with the TAA-certified customer contributed importantly to the workers' separations) was not apparent in the petition, the Department determined that to conduct such an investigation is in the best interest of the separated workers.

The reconsideration investigation revealed that the subject firm produced and packaged cut media paper, which was supplied to a TAA-certified firm (Eastman Kodak Company, Rochester Film Finishing Division, Rochester, New York; TA-W-58,105) to be incorporated into the final product (Kodak Color Cartridge and Photo Paper Kit). Following the loss of cut media paper business with this company, the subject firm ceased production of cut media paper and separated the subject workers (July 2006).

In accordance with Section 246 the Trade Act of 1974 (26 U.S.C. 2813), as amended, the Department of Labor herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the information obtained in the reconsideration investigation, I determine that workers of Label World Incorporated, Rochester, New York qualify as adversely affected secondary workers under Section 222 of the Trade Act of 1974, as amended. In accordance with the provisions of the Act, I make the following certification:

All workers of Label World Incorporated, Rochester, New York, who became totally or partially separated from employment on or after July 26, 2005 through two years from the date of this certification, are eligible to apply for adjustment assistance under Section 223 of the Trade Act of 1974, and are eligible to apply for alternative trade adjustment assistance under Section 246 of the Trade Act of 1974.

Signed in Washington, DC this 9th day of November 2006.
Elliott S. Kushner,
Certifying Officer, Division of Trade Adjustment Assistance.

[FR Doc. E6-19716 Filed 11-21-06; 8:45 am]

BILLING CODE 4510-30-P